DEPARTMENT OF COMMERCE

Census Bureau

Agency Information Collection Activities; Submission to the Office of Management and Budget (OMB) for Review and Approval; Comment Request; Annual Retail Trade Survey

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Annual Retail Trade Survey, prior to the submission of the information collection request (ICR) to OMB for approval.

DATES: To ensure consideration, comments regarding this proposed information collection must be received on or before September 4, 2020.

ADDRESSES: Interested persons are invited to submit written comments by email to Thomas.J.Smith@census.gov. Please reference Annual Retail Trade Survey in the subject line of your comments. You may also submit comments, identified by Docket Number USBC-2020-0016, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Chris Savage, Chief, Retail Trade Branch, Economy-Wide Statistics Division, U.S. Census Bureau, 4600 Silver Hill Road, Washington, DC 20233; (301) 763-4834; or john.c.savage@census.gov.

SUPPLEMENTARY INFORMATION:

I. Abstract

The Annual Retail Trade Survey (ARTS) covers employer firms with establishments located in the United States and classified in the retail trade sector, as defined by the North American Industry Classification System (NAICS).

Firms are selected for this survey using a stratified random sample where strata are defined by industry and annual sales size. The sample consisting of businesses classified in the Retail Trade sector as defined by the 2012 NAICS, is drawn from the Business Register (BR). The BR is the Census Bureau's master business list and contains basic economic information for more than 160,000 multi-establishment companies representing 1.8 million affiliated establishments, 5 million single establishment companies, and nearly 21 million non-employer businesses. The BR obtains information through direct data collections and administrative record information from other federal agencies. The ARTS sample is updated quarterly to reflect employer business “births” and “deaths”, adding new employer businesses identified in the Business and Professional Classification Survey and deleting firms and subunits of firms identified by their Employer Identification Numbers (EINs) when it is determined they are no longer active. The sample is also updated to reflect mergers, acquisitions, divestitures, splits, and other changes to the business universe.

The data items requested in the ARTS include annual sales, annual e-commerce sales, year-end inventories, sales taxes, total operating expenses, detailed operating expenses in reference years ending in 2 and 7, purchases, accounts receivables, and, for selected industries, sales by merchandise line. These data are used to satisfy a variety of public and business needs such as economic market analysis, company performance, and forecasting future demands.

Data are collected electronically using the Census Bureau's secure online reporting instrument (Centurion). This electronic system of reporting is designed to allow respondents easier access, convenience and flexibility. Data are automatically stored and results are available immediately. In rare cases where the company has no access to the internet, the Census Bureau can arrange for the company to provide data to an analyst via telephone.

From survey year 2016 through survey year 2019, there were eight electronic form types (SA-44, SA-44A, SA-44C, SA-44D, SA-44E, SA-44N SA-44S and SA-44T). Starting with survey year 2020 (which will be collected in 2021), there will only be four electronic form types (SA-44C, SA-44D, SA44-S and SA44-T). Forms SA-44A, SA-44E and SA-44N are being removed to streamline data collection operations.

Government agencies, private businesses, and researchers often use the estimates generated from the ARTS. For example, the ARTS serves as a benchmark for the estimates produced from the Census Bureau's Monthly Retail Trade Survey (MRTS). The BEA utilizes the data when developing its gross domestic product (GDP) estimates and the national accounts' input-output tables. The Bureau of Labor Statistics (BLS) uses the data as an input to its producer price indices and in developing productivity measurements. Furthermore, business and industry groups utilize the data to forecast future demand.

Estimates generated from the ARTS are released to the public approximately 13 months after the reference year has concluded. These national-level estimates are published (for the various items collected) by NAICS code and type of operation. Currently, the data are disseminated through the ARTS website. In the future, however, the data will be released via the Census Bureau's dissemination platform, data.census.gov. The survey year 2020 data products are scheduled to be released through the U.S. Census Bureau enterprise dissemination platform, data.census.gov.

II. Method of Collection

The Census Bureau primarily collects this information via the internet. In the rare situation where a respondent does not have access to the internet, the data are collected by telephone.

III. Data

OMB Control Number: 0607-0013.

Form Number(s): SA-44C, SA-44D, SA44-S and SA44-T.

Type of Review: Regular submission, Request for a Revision of a Currently Approved Collection.

Affected Public: Business or other for-profit organizations.

Estimated Number of Respondents: 17,297.

Estimated Time per Response: 39 minutes (2020 and 2021 survey years);

201 minutes (2022 survey year—additional items collected).

Estimated Total Annual Burden Hours: 11,243 hours (2020 and 2021 survey years);

57,945 hours (2022 survey year—additional items collected).

Estimated Total Annual Cost to Public: $0 (This is not the cost of respondents' time, but the indirect costs respondents may incur for such things as purchases of specialized software or hardware needed to report, or expenditures for accounting or records maintenance services required specifically by the collection.)

Respondent's Obligation: Mandatory.

Legal Authority: Title 13 U.S.C. Sections 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-14415 Filed 7-2-20; 8:45 am]

BILLING CODE 3510-07-P